DEPARTMENT OF HEALTH AND HUMAN SERVICES

Office of Inspector General

Program Exclusions: January 2002

AGENCY: Office of Inspector General, HHS.

ACTION: Notice of program exclusions.

During the month of January 2002, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS:
ABRANTE, HECTOR, HIALEAH, FL | 02/20/2002
ADAMS, BILLY WAYNE, FEDERAL WAY, WA | 02/20/2002
BINA, SHOKROLLAH, LOS ANGELES, CA | 02/20/2002
CARING RESPIRATORY SVCS, INC, CORAL GABLES, FL | 09/17/2001
CARROLL, MAXIE G, TALLAHASSEE, FL | 02/20/2002
CORVO, RENE, JESSUP, GA | 02/20/2002
DJGLYAN, ARUTYUN, ELOY, AZ | 02/20/2002
DOUGHERTY, TERRENCE W, CLAYTON, MO | 02/20/2002
ENRIQUEZ, HONORIA, MIAMI, FL | 02/20/2002
ESPINOZA, THELMA AUXILIADOR, SOUTHGATE, CA | 02/20/2002
FAULKNER, THERESA ANN, PHOENIX, AZ | 02/20/2002
FRENZI, MICHELLE L, AURORA, CO | 02/20/2002
FULLER, ALISHA ANN, SPRINGFIELD, OR | 02/20/2002
HING, VAN DAN, LONG BEACH, CA | 02/20/2002
JACKSON, ERNESTINE W, INDIANAPOLIS, IN | 02/20/2002
JACKSON, ALYSSA JOYCE, BATON ROUGE, LA | 02/20/2002
JOHNSON, DOUGLAS A, ALTOONA, PA | 02/20/2002
KATSNELSON, EDWARD, DENVER, CO | 02/20/2002
KATSNELSON, LYUDMILA, DENVER, CO | 02/20/2002
KILMER, CATHY P, TACOMA, WA | 02/20/2002
LEVY, STEPHEN E, TRINIDAD, W INDIES | 10/25/2000
MADDEN, EVA, DETROIT, MI | 02/20/2002
MILLER, ROBERT, ARLINGTON, TX | 02/09/2001
MOLSBEE, BRENDA M, TALLAHASSEE, FL | 02/20/2002
PADILLA, CRISOLOGO L, BROOKLYN, NY | 02/20/2002
PARONIAN, KAZAR, MISSION HILLS, CA | 02/20/2002
PEREZ-ARYAN, ELIA, CORAL GABLES, FL | 09/17/2001
PRICE, LESLIE E, CARY, NC | 02/20/2002
SALUDO, EDUARDO Dy, LOS ANGELES, CA | 02/20/2002
SCHNEIDER-RUCINSKI, NOREEN, SAN DIEGO, CA | 02/20/2002
SMOLKOVICH, REGAN, ARVADA, CO | 02/20/2002
STUARDO, LUIS ARTEMIO, BONITA, CA | 02/20/2002
STUARDO, CAROL MARIE, BONITA, CA | 02/20/2002
VILLARIZA, BEATRICE BURROLA, PALM DESERT, CA | 02/20/2002
WILLIAMS-WARD, LORRAINE F, GREEN POND, SC | 02/20/2002
WOODWORTH, LINDA LERENE, DANBURY, CT | 02/20/2002
FELONY CONVICTION FOR HEALTH CARE FRAUD:
AULT, ELLEN FRANCIS SCANLON, LEXINGTON, KY | 02/20/2002
KOTANSKY, MICHELLE, HAZLETON, PA | 02/20/2002
SMITH, LEE ALLEN, APPLE VALLEY, MN | 02/20/2002
SULLIVAN, JENNIFER A, ROSLINDALE, MA | 02/20/2002
FELONY CONTROLLED SUBSTANCE CONVICTION:
AGER, ALAN LAWRENCE, SAN GERONIMO, CA | 02/20/2002
BRIGGS, JOHN, KINGSPORT, TN | 02/20/2002
DOUGLAS, NATALIE, BESSEMER, MI | 02/20/2002
MARTINEZ, RICHARD FRANK, SAFFORD, AZ | 02/20/2002
RYAN, KAREN MARIE, COLORADO SPRINGS, CO | 02/20/2002
SHOCKLEY, CHERONDA KIM, ROGERSVILLE, TN | 02/20/2002
PATIENT ABUSE/NEGLECT CONVICTIONS:
ARMERO, JUAN ANTONIO, AZUSA, CA | 02/20/2002
BRANCH, CURTIS, VICKSBURG, MS | 02/20/2002
BULLIS, SHAWN R, DELAVAN, WI | 02/20/2002
CONGER, EARLENE, ST ALBANS, VT | 02/20/2002
GOMEZ, FRANCISCO JAVIER, WILDOMAR, CA | 02/20/2002
HART, SHANDER S, BATON ROUGE, LA | 02/20/2002
HAYES, DON JOHN, MANSURA, LA | 02/20/2002
HOWARD, WANDA E, WETUMKA, OK | 02/20/2002
MATHIS, PATRICIA, BRENHAM, TX | 02/20/2002
MCCOY, KIM MARIE, STOCKTON, AL | 02/20/2002
MCKENNEY, BRIAN, JOHNSTOWN, NY | 02/20/2002
NEWTON, VALERIA RILEY, MARION, LA | 02/20/2002
RAY, CHARMAINE, QUEENS, NY | 02/20/2002
ROBBINS, JAMES E, YOUNGSTOWN, OH | 02/20/2002
SALAZAR-VILLAR, CIRO ALCIDES, ESCONDIDO, CA | 02/20/2002
SANCHEZ-DE ARELLANO, NORA OLIV, VISTA, CA | 02/20/2002
SIMPSON, VICKY D, SMITHVILLE, TN | 02/20/2002
TRUDELL, SYLVIA MONTELL, PINEVILLE, LA | 02/20/2002
WOOD, LEIGH ANNE, TUCSON, AZ | 02/20/2002
CONVICTION FOR HEALTH CARE FRAUD:
DICKSON, TRINA KAY, ARKANSAS CITY, KS | 02/20/2002
CONTROLLED SUBSTANCE CONVICTIONS:
SKINNER, DAWN MICHELLE, ESCONDIDO, CA | 02/20/2002
LICENSE REVOCATION/SUSPENSION/SURRENDERED:
ACKERMAN, SHARON R, AMES, IA | 02/20/2002
ADAMS, STEPHANIE DIANN, CHARLOTTE, NC | 02/20/2002
ALCAIDE, KELLEY KAY, SOMMERVILLE, NJ | 02/20/2002
BARBEE, DEBORAH S, CHICAGO, IL | 02/20/2002
BAUERNFEIND, JOYCE ELLEN, ROCHESTER, MN | 02/20/2002
BELT, HARRIET A, BLACK JACK, MO | 02/20/2002
BENNINGFIELD, GAYLA ANN COURTW, BRADFORDSVILLE, KY | 02/20/2002
BENTSON, KRISTA L, W DES MOINES, IA | 02/20/2002
BERUK, DJUANA, GREENVILLE, MS | 02/20/2002
BLANGIN, BARBARA B, LAGRANGE, IL | 02/20/2002
BONNELL, STEPHANIE, MONROE, NJ | 02/20/2002
BRISTOL, DAVID A, BRATTLEBORO, VT | 02/20/2002
BROOKS, REENE F, MATTOON, IL | 02/20/2002
BROWN, KAREN ANNETTE, DENVER, CO | 02/20/2002
BUNCH, LATITIA, CAMDEN, NJ | 02/20/2002
CAIN, DANNY MICHAEL, ROCHESTER, MN | 02/20/2002
CAPOUCH, ROBIN LYNN, BEMIDJI, MN | 02/20/2002
CARRIERE, LAUREN L, WOONSOCKET, RI | 02/20/2002
CARTER, MICHAEL ANSON, CHATSWORTH, CA | 02/20/2002
CHENG, HUNG HUI, SAN FRANCISCO, CA | 02/20/2002
CLAPP, NIOKAH, LOUSIVILLE, KY | 02/20/2002
COLLENBURG, SUSAN CATHERINE, LONGVIEW, TX | 02/20/2002
CONDIT, TONI R, GRAND JUNCTION, CO | 02/20/2002
COVARRUBIAS-MIER, JORGE A, PHOENIX, AZ | 02/20/2002
CRESWELL, DAVID, BLENCOE, IA | 02/20/2002
DICASTRO, STEVEN A, PRINCETON, MA | 02/20/2002
DILL, CASEY, ROSWELL, GA | 02/20/2002
DOTY, MARY T, STRASBURG, IL | 02/20/2002
DRUPPEL, PAUL ROBERT, FORT MADISON, IA | 02/20/2002
DUCHARME, NANCY LOUISE, ST PAUL, MN | 02/20/2002
EISEN, SARAH A, ELGIN, IL | 02/20/2002
ESTERMAN, SIDNEY, E ORANGE, NJ | 02/20/2002
FERGUSON, BONNIE S, MORRIS, IL | 02/20/2002
FLIPPO, SANDRA KAY BYROM, BELL BUCKLE, TN | 02/20/2002
FREEMAN, JENNIFER B, PHOENIX, AZ | 02/20/2002
GARNER, DAWN L., SESSER, IL | 02/20/2002
GERGANS, GREGORY A., EVANSTON, IL | 02/20/2002
GOMEZ, ROBERT, YUMA, AZ | 02/20/2002
HAAKE, LISA A., DES MOINES, IA | 02/20/2002
HACHMEISTER, SUZANNE PEARL, WONDER LAKE, IL | 02/20/2002
HADLICH, ELIZABETH MAY, ST. PAUL, MN | 02/20/2002
HARLAN, CAROLYN L., INDIANAPOLIS, IN | 02/20/2002
HARTLEY, LAUREL SUTCH, RICHEYVILLE, PA | 02/20/2002
HASSER, CARRIE MARIE, MORA, MN | 02/20/2002
HASTAD, PATRICIA KAY, BROOKLYN PARK, MN | 02/20/2002
HICKMAN, DEWAYNE KEITH, ANAHEIM, CA | 02/20/2002
HILBURN, CHERYL LYNN, WILMINGTON, NC | 02/20/2002
HILL, CANDY RENEE, BIRMINGHAM, AL | 02/20/2002
HYRY, PHILLIP WADE, ISHPEMING, MI | 02/20/2002
ILOUNO, GEORGE ORANYELU, HARBOR CITY, CA | 02/20/2002
IORDAMOVA, ZOYA, N. HOLLYWOOD, CA | 02/20/2002
JOHNSON, KATHLEEN RUTH, MINNEAPOLIS, MN | 02/20/2002
JONES, LUCRETIA ANN, SALT LAKE CITY, UT | 02/20/2002
KAPOOR, QUDRAT S., ROSWELL, NM | 02/20/2002
KEESEE, DIANE LYN, CHICAGO, IL | 02/20/2002
KELSEY, MARIANNE BREIER, HIGH POINT, NC | 02/20/2002
KIM, BYUNG CHANG, DIAMOND BAR, CA | 02/20/2002
KOENIG, NANCY LOUISE, ROCHESTER, MN | 02/20/2002
KUSHMER, JOHN V., TAMPA, FL | 02/20/2002
LANDPHAIR, GREGORY R., STRYKERSVILLE, NY | 02/20/2002
LARA, FRANK J., MESA, AZ | 02/20/2002
LAWSON, ALAN R., FAYETTEVILLE, AR | 02/20/2002
LEADER, WILLIAM O., LOS ANGELES, CA | 02/20/2002
LEHNERTZ, LINDA LEE, OWATONNA, MN | 02/20/2002
LEVY, KENNETH D. II, WINDSOR, CT | 02/20/2002
LONNES, DEBORAH JOY, ST. PAUL, MN | 02/20/2002
LOOP, JERRY R., GRAND ISLAND, NE | 02/20/2002
LYONS, DANA, ROEBLING, NJ | 02/20/2002
MCAULEY, DONALD, PHOENIX, AZ | 02/20/2002
MCCANN, JON SCOTT, RED OAK, OK | 02/20/2002
MCGEE, VICKIE W., LAFAYETTE, GA | 02/20/2002
MCGEE, ELIZABETH, AYNE, NJ | 02/20/2002
MILLER, LORI E., ALLEN, TX | 02/20/2002
MOONEY, SHARON RENE, FRANKVILLE, AL | 02/20/2002
MORLEY, KIMBERLY LYNNE, LITTLETON, CO | 02/20/2002
MORSE, TERRY FURR, WEXFORD, PA | 02/20/2002
MUNCAN, PETAR, HOWARD BEACH, NY | 02/20/2002
NEMAZEE, MAHMOUD, SANTA MONICA, CA | 02/20/2002
NESTOR, TIA M., HAY SPRINGS, NE | 02/20/2002
NIMMO, ZWANNAH G., PAWTUCKET, RI | 02/20/2002
NOVICK, HOWARD ALAN, BREINIGSVILLE, PA | 02/20/2002
O'BRIEN, DANIEL PATRICK, LEXINGTON, KY | 02/20/2002
PATTY, KENNETH D., BLAIRS, VA | 02/20/2002
PETERSON, CHERYL RENEE, BLOOMINGTON, MN | 02/20/2002
PIER, LARRY VAUGHN, PAYSON, AZ | 02/20/2002
PLANT-MAU, MARY J., CORPUS CHRISTI, TX | 02/20/2002
POLLARD, WILLIAM W., CORVALLIS, OR | 02/20/2002
PORTER, COLETTE S. THREATS, NORFOLK, VA | 02/20/2002
PRADO, ANGEL, MANHASSET, NY | 02/20/2002
PROCTOR, ROSALIND G., PHOENIX, AZ | 02/20/2002
RANTALA, MARILYN JEAN, SPRINGFIELD, IL | 02/20/2002
RAY, FRANCES F., DENVER, CO | 02/20/2002
RICHARDS, KAY ANN, PHOENIX, AZ | 02/20/2002
RYAN, GERALDINE, BRICK, NJ | 02/20/2002
SAMOY, GREGORIO DALUZ, TUCSON, AZ | 02/20/2002
SANDOVAL, MANUEL A, NEW BRITAIN, CT | 02/20/2002
SARRACCO, LORI ANN, HAM LAKE, MN | 02/20/2002
SCHLEIF, NANCY ANN, PLYMOUTH, MN | 02/20/2002
SCHULTE, CYNTHIA L, KINGMAN, AZ | 02/20/2002
SKORA, ALAN P, DEWITT, IA | 02/20/2002
SMITH, VEE LANDIS, MINNEAPOLIS, MN | 02/20/2002
SOLOMON, ABRAHAM, LONG ISLAND CITY, NY | 02/20/2002
STRUWVE, SUSAN LOUISE, RAMSEY, MN | 02/20/2002
STULL, AARON MYLES, ROCHESTER, MN | 02/20/2002
TAMAYO, RICKY M, EL CENTRO, CA | 02/20/2002
TAYLOR, CORA REBECCA, TUCSON, AZ | 02/20/2002
THORNTON, JUDY LYNN, EL CAJON, CA | 02/20/2002
TOTH, JEANINE MICHELLE, HONOLULU, HI | 02/20/2002
TULLY, ANN MENDELSON, DOYLESTOWN, PA | 02/20/2002
TUTT, KEITH E, PROVIDENCE, RI | 02/20/2002
UNDERWOOD, CLYDE HAMILTON, CLARKSVILLE, AR | 02/20/2002
VEJRASKA, EUGENE, ALLIANCE, NE | 02/20/2002
VISSER, SUSAN C, KNOXVILLE, IA | 02/20/2002
VISSER, MELINDA JAYNE, SUSANVILLE, CA | 02/20/2002
WAHL, REBECCA, WESTERN, NE | 02/20/2002
WAHLERS, KATHLEEN A, MUNCIE, IN | 02/20/2002
WARRICK, LYNETTE ANN, ST CLOUD, MN | 02/20/2002
WATKINS, DEBORAH ANN, WINCHESTER, IL | 02/20/2002
WAYNE, SYLVIA, SUN CITY WEST, AZ | 02/20/2002
WELCH, WENDY J, DECORAH, IA | 02/20/2002
WESTMORELAND, MEREDITH H, COLUMBIA, TN | 02/20/2002
WILLIAMSON, CHRIS E, CAMP VERDE, AZ | 02/20/2002
WILSON, CAMILLE SUE, PENDLETON, OR | 02/20/2002
WOOLDRIDGE, DOUGLAS W, WELLESLEY, MA | 02/20/2002
WRIGHT, PAMELA JEAN, ROCHESTER, MN | 02/20/2002
ZEMAN, LAURA MARIE, KETCHIKAN, AK | 02/20/2002
FEDERAL/STATE EXCLUSION/SUSPENSION:
KATZAP, IZEA, JAMAICA, NY | 02/20/2002
MCCASKILL, EDDIE, ST LOUIS, MO | 02/20/2002
SAUL, STEPHEN, MARGATE, NJ | 02/20/2002
FRAUD/KICKBACKS:
AMEX II, PHOENIX, AZ | 10/09/2001
SPRIGGS, ROBERT ALAN, FAIRFIELD, CA | 11/24/2000
OWNED/CONTROLLED BY CONVICTED ENTITIES:
ADVANCED HEALTH CLINIC, MESA, AZ | 02/20/2002
CHILD & ADOLESCENT INSTITUTE, BEACHWOOD, OH | 02/20/2002
CHIROPRACTIC PLUS, LONGVIEW, TX | 02/20/2002
CREATIVE CARE ENLIGHTENED, FT MYERS, FL | 02/20/2002
M & G HEALTH CARE, INC, MIAMI, FL | 02/20/2002
MAIN STREET DENTAL ASSOCIATES, FARMINGTON, CT | 12/18/2001
MICHAEL B AUSTIN, D O, P A, TAMPA, FL | 02/20/2002
PSYCHIATRIC PROFESSIONAL GROUP, N OLMSTEAD, OH | 02/20/2002
DEFAULT ON HEAL LOAN:
ALEXANDER, MICHAEL A, ALIQUIPPA, PA | 02/20/2002
ARGUEDAS, WALTER G, HIALEAH, FL | 02/20/2002
BELLER, BRYAN D, SOUTHGATE, MI | 02/20/2002
CAFAGNA, MARK WILLIAM SR, WEST HILLS, CA | 02/20/2002
CAGLE, LARRY S, AHOSKIE, NC | 02/20/2002
CARR, GUY A, HUTCHINSON, KS | 02/20/2002
CONSTANTINESCU, SERBAN CRISTIA, PHILADELPHIA, PA | 02/20/2002
COOPER, SHIRLEY T, LANSDALE, PA | 02/20/2002
CRAIG, BRADLEY D, SNOWFLAKE, AZ | 02/20/2002
DE JESUS-MIRANDA, LUIS A, SAN JUAN, PR | 02/20/2002
DIENER, ROBERT B, AUBURNDALE, MA | 02/20/2002
DONELSON, RICHARD BARTON, PHOENIX, AZ | 02/20/2002
EATON, GARY D, SPRINGFIELD, MO | 02/20/2002
ELLZEY, PAUL D, PRATTVILLE, AL | 02/20/2002
FISHBOUGH, ROSS E, BENSLAEM, PA | 02/20/2002
FLOYD, THOMAS PARKER, TRUFANT, MI | 02/20/2002
GREETHONG, KITIMAN, IRVINE, CA | 02/20/2002
HAGEN, CALVIN P, KANSAS CITY, MO | 02/20/2002
HANSEN, KRIS T, ST GEORGE, UT | 02/20/2002
HORNIG-ROHAN, JAMES EDWARD, SENECA, SC | 02/20/2002
IBRIK, AMIR, SYRACUSE, NY | 02/20/2002
KALMAN, BETSY S, RICHMOND HILL, NY | 02/20/2002
KRUGMAN, LINDA L, LEXINGTON, KY | 02/20/2002
LE SAGE, SAHARA ADAMS, LEAGUE CITY, TX | 02/20/2002
LEONELLI, DAVID ROMAN SR, LOS ANGELES, CA | 02/20/2002
LEWIS, STEVEN R, IRVING, TX | 02/20/2002
LINSTEADT, ELIZABETH M, DENISON, TX | 02/20/2002
LUCEY, TIMOTHY D, NEWBURGH, NY | 02/20/2002
MARTINEZ, DANIEL A, REDLANDS, CA | 02/20/2002
MASSAKOWSKI, EDWARD A, BENSALEM, PA | 02/20/2002
MCGHEE, STEPHANIE Y, HOUSTON, TX | 02/20/2002
MCINNES, THOMAS K, POOLESVILLE, MD | 02/20/2002
MEINHOLD, STEVEN DALE, OMAHA, NE | 02/20/2002
MONICA, JULIANNE H, SPRING LAKE, NJ | 02/20/2002
NEWELL, DAVID CLIFFORD, FORT BRAGG, CA | 02/20/2002
OWCZAREK, KEITH VINCENT, MARYSVILLE, WA | 02/20/2002
PATT, RICHARD H, NEW YORK, NY | 02/20/2002
PEISS, STUART, HOFFMAN ESTATES, IL | 02/20/2002
PHILLIPS, THADDEUS HILLARD III, SAN ANTONIO, TX | 02/20/2002
PORTNOW, ROBERT THOMAS, CLEVELAND, OH | 02/20/2002
RAMU, NALAYA, LOS ANGELES, CA | 02/20/2002
RASHTI, KOUROS, TARZANA, CA | 02/20/2002
RICHBERG, MARK H, PHILADELPHIA, PA | 02/20/2002
RIGNEY, MARK EDWARD, OKLAHOMA CITY, OK | 02/20/2002
ROMERO, JOHN JOSEPH, ALBURQUERQUE, NM | 02/20/2002
RORRER, MARK TIMOTHY, CLAYTON, OH | 02/20/2002
ROZENBERG, RONALD L, LEVITTOWN, NY | 02/20/2002
RUSSELL, BILL, ST LOUIS, MO | 02/20/2002
SAID, SAED M, UNIONVILLE, CT | 12/18/2001
SANDOR, GEORGE JOSEPH, NEW YORK, NY | 02/20/2002
SAUTMAN, SATPAL K, PLANTATION, FL | 02/20/2002
SCHWARTZ, FRANCIS XAVIER JR, OAKLAND, CA | 02/20/2002
SCHWARZ-MANDRACCHIA, DENISE MA, WINTERSET, IA | 02/20/2002
SLOTNICK, ROBIN T, CLEVELAND, OH | 02/20/2002
STOCK, ANN M, BELLEVILLE, IL | 02/20/2002
THOMPSON, JANETTE A, SILVER SPRING, MD | 02/20/2002
TOLIVER, EDWARD C, CHICAGO, IL | 02/20/2002
VESTICH, GEORGE T, RICHMOND, OH | 02/20/2002
VILLANO, GUY JOHN, NISKAYUNA, NY | 02/20/2002
WALCHER, KEVIN RAY, BOOKER, TX | 02/20/2002
WALTERS, BRIAN D JR, SEATTLE, WA | 02/20/2002
WAN, JAMES Y, MOBILE, AL | 02/20/2002
WHEDBEE, JOSEPH IRELAND, REDLANDS, CA | 02/20/2002
WILLIAMS, ERIC A, TOWSON, MD | 02/20/2002
WILSON, RONALD E, DETROIT, MI | 02/20/2002
YODER, KYLE JAY, REDWOOD CITY, CA | 02/20/2002
ZIMMERMAN, MARY L P, OCONOMOWOL, WI | 02/20/2002

Dated: February 4, 2002.
Calvin Anderson, Jr.,
Director, Health Care Administrative Sanctions, Office of Inspector General.

[FR Doc. 02-4868 Filed 2-28-02; 8:45 am]

BILLING CODE 4150-04-P